ENVIRONMENTAL PROTECTION AGENCY

[OPP-66278; FRL-6736-7]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations.

DATES: Unless a request is withdrawn by, January 29, 2001, orders will be issued canceling all of these registrations.

FOR FURTHER INFORMATION CONTACT: By mail: James A. Hollins, Office of Pesticide Programs (7502C), Environmental Protection Agency, 1200 Pennsylvania Avenue, N.W., Washington, DC 20460. Office location for commercial courier delivery, telephone number and e-mail address: Rm. 224, Crystal Mall No. 2, 1921 Jefferson Davis Highway, Arlington, VA 22202, (703) 305-5761; e-mail: hollins.james@epa.gov.

SUPPLEMENTARY INFORMATION:

I. General Information

A. Does this apply to me?

This action is directed to the public in general. Although this action may be of particular interest to persons who produce or use pesticides, the Agency has not attempted to describe all the specific entities that may be affected by this action. If you have any questions regarding the information in this notice, consult the person listed in the “FOR FURTHER INFORMATION CONTACT.”

B. How can I get additional information or copies of support documents?

1. Electronically. You may obtain electronic copies of this document and various support documents are available from the EPA Home Page at the Federal Register—Environmental Documents entry for this document under “Laws and Regulations” (http://www.epa.gov/fedrgstr/).

2. In person. Contact James A. Hollins at 1921 Jefferson Davis Highway, Crystal Mall 2, Rm. 224, Arlington, VA, telephone number (703) 305-5761. Available from 7:30 a.m. to 4:45 p.m., Monday thru Friday, excluding legal holidays.

II. What Action is the Agency Taking?

This notice announces receipt by the Agency of applications from registrants to cancel some 55 pesticide products registered under section 3 or 24 of FIFRA. These registrations are listed in sequence by registration number (or company number and 24 number) in the following Table 1.

Table 1.—Registrations With Pending Requests for Cancellation
Registration No. | Product Name | Chemical Name
000239-02483 | Ortho Methoxychlor 70 Dust Base | Methoxychlor (2,2-bis(p-methoxyphenyl)-1,1,1-trichloroethane)
000264-00512 | Chlorinated Trisodium Phosphate | Chlorinated trisodium phosphate
000577-00546 | Cuprinol Stain & Wood Preservative | Tetrachloroisophthalonitrile
|  | Bis(tributyltin) oxide
000787-00042 | Mothine Mothprofing | Methoxychlor (2,2-bis(p-methoxyphenyl)-1,1,1-trichloroethane )
000787-00043 | Pro-Tec II Moth Proofing | Methoxychlor (2,2-bis(p-methoxyphenyl)-1,1,1-trichloroethane)
001448-00030 | Busan 25 | 2-(Thiocyanomethylthio)benzothiazole
|  | S-(2-Hydroxypropyl) thiomethanesulfonate
001448-00078 | Busan 1005 | S-(2-Hydroxypropyl) thiomethanesulfonate
001448-00090 | Busan 1023 | S-(2-Hydroxypropyl) thiomethanesulfonate
|  | Poly(oxyethylene(dimethy- liminio)ethylene(dimethyliminio) ethylene dichloride)
002217-00129 | 50% Methoxychlor Wettable Powder | Methoxychlor (2,2-bis(p-methoxyphenyl)-1,1,1-trichloroethane)
002217-00131 | Methoxychlor Emulsion Concentrate | Methoxychlor (2,2-bis(p-methoxyphenyl)-1,1,1-trichloroethane)
002217-00527 | Methoxychlor Tree Spray | Methoxychlor (2,2-bis(p-methoxyphenyl)-1,1,1-trichloroethane)
002217-00628 | Methoxychlor 75 Dust Base | Methoxychlor (2,2-bis(p-methoxyphenyl)-1,1,1-trichloroethane)
002935-00385 | Methoxychlor 2 Spray | Methoxychlor (2,2-bis(p-methoxyphenyl)-1,1,1-trichloroethane)
002935 WA-92-0037 | Busan 1020 | Sodium N-methyldithiocarbamate
002935 WA-93-0016 | Wilbur-Ellis Diazinon 4 Spray | O,O-Diethyl O-(2-isopropyl-6-methyl-4-pyrimidinyl) phosphorothioate
003125 ND-93-0006 | Sencor Solupak 75% Dry Flowable Herbicide | 1,2,4-Triazin-5(4H)-one, 4-amino-6-(1,1-dimethylethyl)-3-(methylthio)-
003125 WA-97-0004 | Sencor Solupak 75% Dry Flowable Herbicide | 1,2,4-Triazin-5(4H)-one, 4-amino-6-(1,1-dimethylethyl)-3-(methylthio)-
004691-00096 | Horse Spray & Rub-On | Butoxypolypropylene glycol
|  | Methoxychlor (2,2-bis(p-methoxyphenyl)-1,1,1-trichloroethane)
|  | (Butylcarbityl)(6-propylpiperonyl) ether 80% and related compounds 20%
|  | Pyrethrins
004708-00029 | U-San-O Mothproofing Solution | Methoxychlor (2,2-bis(p-methoxyphenyl)-1,1,1-trichloroethane)
005905-00239 | Diazinon Methoxychlor Insecticide | Methoxychlor (2,2-bis(p-methoxyphenyl)-1,1,1-trichloroethane)
|  | O,O-Diethyl O-(2-isopropyl-6-methyl-4-pyrimidinyl) phosphorothioate
006836-00262 | Isocil OG 1.5 | 5-Chloro-2-methyl-3(2H)-isothiazolone
|  | 2-Methyl-3(2H)-isothiazolone
007401-00118 | Hi-Yield 2 lb. Methoxychlor Emulsifiable Concentrate | Methoxychlor (2,2-bis(p-methoxyphenyl)-1,1,1-trichloroethane)
007401-00121 | V P G Range Cattle Spray | Methoxychlor (2,2-bis(p-methoxyphenyl)-1,1,1-trichloroethane)
|  | O,O-Dimethyl phosphorodithioate of diethyl mercaptosuccinate
007401-00172 | Ferti-Lome Fruit Tree Spray | Methoxychlor (2,2-bis(p-methoxyphenyl)-1,1,1-trichloroethane)
|  | O,O-Dimethyl phosphorodithioate of diethyl mercaptosuccinate
007401-00187 | Hi-Yield Brand Cattle Dust | Methoxychlor (2,2-bis(p-methoxyphenyl)-1,1,1-trichloroethane)
|  | O,O-Dimethyl phosphorodithioate of diethyl mercaptosuccinate
007401-00254 | Vegetable Garden Spray | Methoxychlor (2,2-bis(p-methoxyphenyl)-1,1,1-trichloroethane)
|  | O,O-Diethyl O-(2-isopropyl-6-methyl-4-pyrimidinyl) phosphorothioate
007401-00271 | Hi-Yield Livestock Spray No.3 | Methoxychlor (2,2-bis(p-methoxyphenyl)-1,1,1-trichloroethane)
|  | O,O-Dimethyl phosphorodithioate of diethyl mercaptosuccinate
007401-00275 | Hi-Yield Dairy and Livestock Dust | Methoxychlor (2,2-bis(p-methoxyphenyl)-1,1,1-trichloroethane)
|  | O,O-Dimethyl phosphorodithioate of diethyl mercaptosuccinate
007401-00328 | Hi-Yield General Purpose Garden Insect Spray | Methoxychlor (2,2-bis(p-methoxyphenyl)-1,1,1-trichloroethane)
|  | O,O-Dimethyl phosphorodithioate of diethyl mercaptosuccinate
007401-00368 | Ferti-Lome Bagworm & Tent Caterpillar Killer | Methoxychlor (2,2-bis(p-methoxyphenyl)-1,1,1-trichloroethane)
|  | O,O-Dimethyl phosphorodithioate of diethyl mercaptosuccinate
007401-00380 | American Brand Bulb Dust | Methoxychlor (2,2-bis(p-methoxyphenyl)-1,1,1-trichloroethane)
|  | Tetramethyl thiuramdisulfide
007401-00397 | Hi-Yield Methoxychlor Garden Dust | Methoxychlor (2,2-bis(p-methoxyphenyl)-1,1,1-trichloroethane)
008660-00043 | Vertagreen 25% Methoxychlor | Methoxychlor (2,2-bis(p-methoxyphenyl)-1,1,1-trichloroethane)
008660-00051 | 50% Methoxychlor WP | Methoxychlor (2,2-bis(p-methoxyphenyl)-1,1,1-trichloroethane)
008660-00135 | Dairy Cattle Dust | Methoxychlor (2,2-bis(p-methoxyphenyl)-1,1,1-trichloroethane)
028293-00298 | Martin's Livestock Dust | Methoxychlor (2,2-bis(p-methoxyphenyl)-1,1,1-trichloroethane)
033955-00528 | Acme Methoxychlor 50% Wettable | Methoxychlor (2,2-bis(p-methoxyphenyl)-1,1,1-trichloroethane)
034704-00102 | Clean Crop Methoxychlor 2 EC | Methoxychlor (2,2-bis(p-methoxyphenyl)-1,1,1-trichloroethane)
034704-00205 | Clean Crop Malathion/Methoxychlor Spray | Methoxychlor (2,2-bis(p-methoxyphenyl)-1,1,1-trichloroethane)
|  | O,O-Dimethyl phosphorodithioate of diethyl mercaptosuccinate
034704-00652 | Captan-Methoxychlor 75-3 WP Seed Protectant | Methoxychlor (2,2-bis(p-methoxyphenyl)-1,1,1-trichloroethane)
|  | cis-N-Trichloromethylthio-4-cyclohexene-1,2-dicarboximide
034704-00660 | Thiram-Methoxychlor 70-2 WP Seed Protectant | Methoxychlor (2,2-bis(p-methoxyphenyl)-1,1,1-trichloroethane)
|  | Tetramethyl thiuramdisulfide
034704-00670 | Methoxychlor 25 EC | Methoxychlor (2,2-bis(p-methoxyphenyl)-1,1,1-trichloroethane)
034704-00760 | Fruit Tree Spray | Methoxychlor ( 2,2-bis(p-methoxyphenyl)-1,1,1-trichloroethane )
|  | O,O-Dimethyl phosphorodithioate of diethyl mercaptosuccinate
|  | cis-N-Trichloromethylthio-4-cyclohexene-1,2-dicarboximide
034704 OR-97-0018 | Clean Crop Methoxychlor 2 EC | Methoxychlor (2,2-bis(p-methoxyphenyl)-1,1,1-trichloroethane)
034911-00007 | Hi-Yield General Purpose Insect Spray | Methoxychlor (2,2-bis(p-methoxyphenyl)-1,1,1-trichloroethane)
|  | O,O-Dimethyl phosphorodithioate of diethyl mercaptosuccinate
047000-00041 | 25% Methoxychlor Emulsifiable Insecticide | Methoxychlor (2,2-bis(p-methoxyphenyl)-1,1,1-trichloroethane)
047000-00070 | Spray Concentrate | Butoxypolypropylene glycol
|  | Methoxychlor (2,2-bis(p-methoxyphenyl)-1,1,1-trichloroethane)
|  | (Butylcarbityl)(6-propylpiperonyl) ether 80% and related compounds 20%
|  | Pyrethrins
050534 OR-77-0025 | Bueno-6 | Monosodium acid methanearsonate
058185-00017 | Ornalin Contact Fungicide 50% Wettable Powder/turf | 3-(3,5-Dichlorophenyl)-5-ethenyl-5-methyl-2,4-oxazolidinedione
058185-00021 | Ornalin Concentrate Fungicide | 3-(3,5-Dichlorophenyl)-5-ethenyl-5-methyl-2,4-oxazolidinedione
063281-00005 | Beaucoup Germicidal Detergent | 2-Benzyl-4-chlorophenol
|  | 4-tert-Amylphenol
|  | o-Phenylphenol
067517-00006 | Horse Spray Concentrate Insecticide | Butoxypolypropylene glycol
|  | Methoxychlor (2,2-bis(p-methoxyphenyl)-1,1,1-trichloroethane)
067517-00016 | Cattle Dust | Methoxychlor (2,2-bis(p-methoxyphenyl)-1,1,1-trichloroethane)
067619-00004 | Cppc Ultra Bleach | Sodium hypochlorite
067760-00002 | Cheminova Malathion—Methoxychlor Spray | Methoxychlor (2,2-bis(p-methoxyphenyl)-1,1,1-trichloroethane)
|  | O,O-Dimethyl phosphorodithioate of diethyl mercaptosuccinate

Unless a request is withdrawn by the registrant within 180 days (30 days when requested by registrant) of publication of this notice, orders will be issued canceling all of these registrations. Users of these pesticides or anyone else desiring the retention of a registration should contact the applicable registrant during this comment period.

The following Table 2, includes the names and addresses of record for all registrants of the products in Table 1, in sequence by EPA company number:

Table 2.—Registrants Requesting Voluntary Cancellation
EPA Company No. | Company Name and Address
000239 | The Scotts Co., D/b/a The Ortho Group, Box 1749, Columbus, OH 43216.
000264 | Aventis CropScience USA LP, 2 T.W. Alexander Drive, Research Triangle Park, NC 27709.
000577 | The Sherwin-Williams Co., Cuprinol Group/The Thompson's Co., 101 Prospect Ave, Cleveland, OH 44115.
000787 | ADCO Inc., Po Box 999, Sedalia, MO 65301.
001448 | Buckman Laboratories Inc., 1256 North Mclean Blvd, Memphis, TN 38108.
002217 | PBI/Gordon Corp., Attn: Craig Martens, Box 014090, Kansas City, MO 64101.
002935 | Wilbur Ellis Co., 191 W. Shaw Ave, #107, Fresno, CA 93704.
003125 | Bayer Corp., Agriculture Division, 8400 Hawthorn Rd, Box 4913, Kansas City, MO 64120.
004691 | Boehringer Ingelheim Vetmedica, Inc., 2621 North Belt Highway, St Joseph, MO 64506.
004708 | Laidlaw Corp., 1212 E. 5th Street, Metropolis, IL 62960.
005905 | Helena Chemical Co, 6075 Poplar Ave., Suite 500, Memphis, TN 38119.
006836 | Lonza Inc., 17-17 Rte 208, Fair Lawn, NJ 07410.
007401 | Brazos Associates, Inc., Agent For: Voluntary Purchasing Group Inc, c/o Voluntary Purchasing Groups Inc., Box 460, Bonham, TX 75418.
008660 | Pursell Industries, Inc., Box 540, Sylacauga, AL 35150.
028293 | Unicorn Laboratories, 12385 Automobile Blvd., Clearwater, FL 33762.
033955 | PBI/Gordon Corp., Attn: Craig Martens, Box 014090, Kansas City, MO 64101.
034704 | Jane Cogswell, Agent For: Platte Chemical Co., Inc., Box 667, Greeley, CO 80632.
034911 | Brazos Associates, Inc., Agent For: Hi-Yield Chemical Co., c/o Voluntary Purchasing Groups, Box 460, Bonham, TX 75418.
047000 | Chem-Tech Ltd, Attn: James Melton, 4515 Fleur Dr. #303, Des Moines, IA 50321.
050534 | GB Biosciences Corp., c/o Zeneca Ag Products, 1800 Concord Pike Box 15458, Wilmington, DE 19850.
058185 | Scotts-Sierra Crop Protection Co., Attn: Vincent Snyder, Jr, 14111 Scottslawn Rd, Marysville, OH 43041.
063281 | RSP Private Label Packaging, Ecolab Inc., 370 N. Wabasha Street, St. Paul, MN 55102.
067517 | PM Resources Inc., 13001 St. Charles Rock Rd, Bridgeton, MO 63044.
067619 | Clorox Professional Products Co, c/o PS & RC Box 493, Pleasanton, CA 94566.
067760 | Cheminova Inc., Oak Hill Park 1700 Route 23 - Ste 210, Wayne, NJ 07470.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Loss of Active Ingredient

Unless the request for cancellation is withdrawn, one pesticide active ingredient will no longer appear in any registered products. Those who are concerned about the potential loss of this active ingredient for pesticidal use are encouraged to work directly with the registrant to explore the possibility of withdrawing their request for cancellation. The active ingredient is listed in the following Table 3, with the EPA company and CAS number.

Table 3.—Disappearing Active Ingredient
CAS No. | Chemical Name | EPA Company No.
11084-85-8 | Chlorinated trisodium phosphate | 000264

V. Procedures for Withdrawal of Request

Registrants who choose to withdraw a request for cancellation must submit such withdrawal in writing to James A. Hollins, at the address given above, postmarked before January 29, 2001. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

VI. Provisions for Disposition of Existing Stocks

The effective date of cancellation will be the date of the cancellation order. The orders effecting these requested cancellations will generally permit a registrant to sell or distribute existing stocks for 1 year after the date the cancellation request was received by the Agency. This policy is in accordance with the Agency's statement of policy as prescribed in Federal Register June 26, 1991; (56 FR 29362) (FRL-3846-4). Exception to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale, distribution, or use of the products or their ingredients have already been imposed, as in Special Review actions, or where the Agency has identified significant potential risk concerns associated with a particular chemical.

List of Subjects

Environmental protection, Pesticides and pests, Product registrations.

Dated: July 25, 2000.
Richard D. Schmitt,
Associate Director, Information Resources Services Division, Office of Pesticide Programs.

[FR Doc. 00-19510 Filed 8-1-00; 8:45 am]

BILLING CODE 6560-50-F